DEPARTMENT OF COMMERCE

National Oceanic and Atmospheric Administration

50 CFR Part 300

[Docket No. 180206132-8132-01]

RIN 0648-BH53

Pacific Halibut Fisheries; Catch Sharing Plan

AGENCY: National Marine Fisheries Service (NMFS), National Oceanic and Atmospheric Administration (NOAA), Commerce.

ACTION: Final rule.

SUMMARY: The Assistant Administrator for Fisheries, National Oceanic and Atmospheric Administration (NOAA), on behalf of the International Pacific Halibut Commission (IPHC), publishes as regulations the 2018 annual management measures governing the Pacific halibut fishery that have been recommended by the IPHC and accepted by the Secretary of State. This action is intended to enhance the conservation of Pacific halibut and further the goals and objectives of the Pacific Fishery Management Council (PFMC) and the North Pacific Fishery Management Council (NPFMC or Council).

DATES: The IPHC's 2018 annual management measures are valid March 8, 2018. The 2018 management measures are valid until superseded.

ADDRESSES: Additional requests for information regarding this action may be obtained by contacting the International Pacific Halibut Commission, 2320 W. Commodore Way, Suite 300, Seattle, WA 98199-1287; or Sustainable Fisheries Division, NMFS Alaska Region, P.O. Box 21668, Juneau, AK 99802, Attn: Ellen Sebastian, Records Officer; or Sustainable Fisheries Division, NMFS West Coast Region, 7600 Sand Point Way NE, Seattle, WA 98115. This final rule also is accessible via the internet at the Federal eRulemaking portal at http://www.regulations.gov, identified by docket number NOAA-NMFS-2017-0157.

FOR FURTHER INFORMATION CONTACT: For waters off Alaska, Kurt Iverson, 907-586-7210; or, for waters off the U.S. West Coast, Kathryn Blair, 206-526-6140.

SUPPLEMENTARY INFORMATION:

Background

The IPHC has recommended regulations that would govern the Pacific halibut fishery in 2018, pursuant to the Convention between Canada and the United States of America (U.S.) for the Preservation of the Halibut Fishery of the North Pacific Ocean and Bering Sea (Convention), signed at Ottawa, Ontario, on March 2, 1953, as amended by a Protocol Amending the Convention (signed at Washington, DC, on March 29, 1979).

As provided by the Northern Pacific Halibut Act of 1982 (Halibut Act) at 16 U.S.C. 773b, the Secretary of State, with the concurrence of the Secretary of Commerce, may accept or reject, on behalf of the United States, regulations recommended by the IPHC in accordance with the Convention (Halibut Act, Sections 773-773k). The Secretary of State, with the concurrence of the Secretary of Commerce, accepted the 2018 IPHC regulations as provided by the Halibut Act at 16 U.S.C. 773-773k.

The Halibut Act provides the Secretary of Commerce with the authority and general responsibility to carry out the requirements of the Convention and the Halibut Act. The Regional Fishery Management Councils may develop, and the Secretary of Commerce may implement, regulations governing harvesting privileges among U.S. fishermen in U.S. waters that are in addition to, and not in conflict with, approved IPHC regulations. The NPFMC has exercised this authority most notably in developing halibut management programs for three fisheries that harvest halibut in Alaska: the subsistence, sport, and commercial fisheries. The PFMC has exercised this authority by developing a catch sharing plan governing the allocation of halibut and management of sport fisheries on the U.S. West Coast.

Independent of the NPFMC and the PFMC, the Secretary of Commerce has the authority under Article I of the Convention and section 773c of the Halibut Act to carry out the purposes and objectives of the Convention including the governing harvesting privileges among U.S. fishermen through regulations that are more restrictive than those adopted by the IPHC.

Subsistence and sport halibut fishery regulations for Alaska are codified at 50 CFR part 300. Commercial halibut fisheries in Alaska are subject to the Individual Fishing Quota (IFQ) Program and Western Alaska Community Development Quota (CDQ) Program (50 CFR part 679) regulations, and the area-specific catch sharing plans (CSPs).

The IPHC apportions catch limits for the Pacific halibut fishery among IPHC Regulatory Areas (Areas) (Figure 1): Area 2A (California, Oregon, and Washington), Area 2B (British Columbia, Canada), Area 2C (Southeast Alaska), Area 3A (Central Gulf of Alaska), Area 3B (Western Gulf of Alaska), and Area 4 (subdivided into 5 areas, 4A through 4E, in the Bering Sea and Aleutian Islands of Western Alaska).

The NPFMC implemented a CSP among commercial IFQ and CDQ halibut fisheries in Areas 4C, 4D, and 4E (Area 4, Western Alaska) through rulemaking, and the Secretary of Commerce approved the plan on March 20, 1996 (61 FR 11337). The Area 4 CSP regulations were codified at 50 CFR 300.65, and were amended on March 17, 1998 (63 FR 13000). New annual regulations pertaining to the Area 4 CSP also may be implemented through IPHC action, subject to acceptance by the Secretary of State.

The NPFMC recommended and NMFS implemented through rulemaking a CSP for guided sport (charter) and commercial IFQ halibut fisheries in Areas 2C and Area 3A on January 13, 2014 (78 FR 75844, December 12, 2013). The Area 2C and 3A CSP regulations are codified at 50 CFR 300.65. The CSP defines an annual process for allocating halibut between the commercial and charter fisheries so that each sector's allocation varies in proportion to halibut abundance, specifies a public process for setting annual management measures, and authorizes limited annual leases of commercial IFQ for use in the charter fishery as guided angler fish (GAF).

The IPHC held its annual meeting in Portland, Oregon, January 22 through 26, 2018. At this meeting, the IPHC recommended a number of changes to the 2017 IPHC regulations (82 FR 12730, March 7, 2017). The Secretary of State accepted these annual management measures, including the following changes to the previous IPHC regulations for 2018:

1. New commercial halibut fishery opening and closing dates in Section 9;

2. Revisions to existing regulations in Section 18 to clarify the requirement for commercial halibut to be landed and weighed with the head attached;

3. Modifications to Section 8 and Section 12 that align IPHC regulations to recent NPFMC actions that would allow CDQ groups to lease (receive by transfer) halibut quota share (QS) in Areas 4B, 4C, and 4D;

4. A minor revision to Section 29(1)(f) to clarify that halibut harvested on a charter vessel fishing trip in Area 2C or Area 3A must be retained on board the vessel on which the halibut was caught until the end of the fishing trip;

5. Addition of language to existing regulations in Section 29 that clarifies the skin-on requirement of halibut that are retained and cut into sections on board a sport fishing vessel;

6. Changes to Sections 20(1) and 20(2) to allow halibut to be taken with pot gear under specific circumstances provided in NMFS regulations;

7. Revisions to the management measures for Area 2C and Area 3A charter halibut anglers in Section 29 that close three Tuesdays to charter halibut fishing. The dates for the 2017 closures are revised to conform to specific dates in 2018; and

8. Minor revisions to standardize terminology and clarify the regulations, including a new table in Section 4 to specify the commercial, sport, and Treaty fishing catch limits for all IPHC regulatory areas.

At the January 2018 annual meeting, the IPHC did not agree, and therefore did not recommend changes to the following management measures:

1. New catch limits in any IPHC regulatory area;

2. Revised CSP allocations for charter and commercial IFQ halibut fisheries in Areas 2C and 3A;

3. Revised charter halibut management measures in Areas 2C and 3A; or

4. Revised CSP allocations for the commercial IFQ and CDQ halibut fisheries in Areas 4C, 4D, and 4E.

Although the United States and Canada voiced consensus at the IPHC's January 2018 annual meeting that some reduction in catch limits relative to 2017 in all Areas was appropriate, U.S. and Canadian Commissioners could not agree on specific catch limits for 2018. Therefore, the IPHC did not make a recommendation to the Secretary of State to revise the catch limits that were recommended and implemented in 2017. Because the U.S. and Canadian Commissioners could not reach agreement on the specific catch limits in each Area, the IPHC did not provide specific recommendations to revise the CSP allocations for charter and commercial IFQ halibut fisheries in Area 2C and Area 3A, charter halibut management measures in Areas 2C and 3A, or the CSP allocations for the commercial IFQ and CDQ halibut fisheries in Areas 4C, 4D, and 4E.

The U.S. Commissioners recommended that NMFS undertake a separate domestic regulatory process to implement the catch limits endorsed by the U.S. Commissioners and the CSP allocations and charter management measures for 2018 that would result from their recommendation for reduced catch limits. NMFS is authorized to implement regulations under a separate rulemaking process governing harvesting privileges among U.S. fishermen in U.S. waters that are more restrictive than those adopted by the IPHC. Such regulations may include catch limits that are more restrictive than those shown in Section 4 of the IPHC's regulations.

Pursuant to regulations at 50 CFR 300.62, the 2018 IPHC annual management measures described herein are published in the Federal Register to provide notice of their immediate regulatory effectiveness and to inform persons subject to the regulations of their restrictions and requirements. Because NMFS publishes the regulations applicable to the entire Convention area, these regulations include some provisions relating to and affecting Canadian fishing and fisheries. NMFS may implement more restrictive regulations for the fishery for halibut or components of it; therefore, anglers are advised to check the current U.S. Federal and IPHC regulations prior to fishing.

Catch Limits

Because the IPHC could not reach agreement and did not recommend catch limits for 2018, the catch limits adopted for 2017 are in effect for the 2018 fishing year unless superseded by an action separate from this final rule. For the 2017 fishing year, the IPHC recommended to the governments of Canada and the U.S. catch limits totaling 31,400,000 lb (14,242.80 mt). A complete description of the background and process the IPHC used to set the 2017 overall catch limit and the catch limits for individual IPHC Areas can be found in the Federal Register at (82 FR 12730, March 7, 2017). The 2017 IPHC catch limits can also be found in Section 11 of the 2017 IPHC annual management measures and Section 4 of the 2018 IPHC annual management measures. The 2017 and 2018 catch limits are summarized below in Table 1.

Table 1—Catch Limits for 2017 and 2018 by IPHC Regulatory Area
Regulatory area | 2017 and 2018 IPHC catch limit (lb)
2A 1 | 1,330,000
2B 2 | 7,450,000
2C 3 | 5,250,000
3A 3 | 10,000,000
3B | 3,140,000
4A | 1,390,000
4B | 1,140,000
4CDE | 1,700,000
Coastwide | 31,400,000
1 Area 2A catch limit includes sport, commercial, and tribal catch limits.
2 Area 2B catch limit includes sport and commercial catch limits.
3 Shown is the combined commercial and charter allocation under the Area 2C and 3A CSP. This value includes allocations to the charter sector and charter wastage, and an amount for commercial landings and wastage. The commercial catch limits after deducting wastage are 4,212,000 lb in Area 2C and 7,739,000 lb in Area 3A.

NMFS may implement more restrictive regulations for the fishery for halibut or components of it; therefore, anglers are advised to check the current U.S. Federal and IPHC regulations prior to fishing. If NMFS does change any of the IPHC Regulatory Area 2018 catch limits through a separate rulemaking, the breakdown described in the Table in Section 4 of the IPHC's regulations would also change.

Commercial Halibut Fishery Opening and Closing Dates

The IPHC considers advice from the IPHC's two advisory boards when selecting opening and closing dates for the halibut fishery. The opening date for the tribal commercial fishery in Area 2A and for the commercial halibut fisheries in Areas 2B through 4E is March 24, 2018. The March 24 opening date is thirteen days later than the 2017 opening date. The IPHC took into account many factors when recommending the season start date, including but not limited to, the timing of halibut migration and spawning, and having a Saturday season opening to facilitate marketing. In addition, the majority of the fishing effort on the opening date has historically been for sablefish, whose opening date is tied to the halibut season dates, and not for halibut.

The closing date for the halibut fisheries is November 7, 2018. This date takes into account the anticipated time required to fully harvest the commercial halibut catch limits, seasonal holidays, and adequate time for IPHC staff to review the complete record of 2018 commercial catch data for use in the 2018 stock assessment process.

In the Area 2A non-treaty directed commercial fishery the IPHC recommended seven 10-hour fishing periods. Each fishing period shall begin at 0800 hours and terminate at 1800 hours local time on June 27, July 11, July 25, August 8, August 22, September 5, and September 19, 2018, unless the IPHC specifies otherwise. These 10-hour openings will occur until the quota is taken and the fishery is closed.

Area 2A Catch Sharing Plan

The NMFS West Coast Region published a proposed rule for changes to the Pacific Halibut Catch Sharing Plan for Area 2A off Washington, Oregon, and California on January 30, 2018 (83 FR 4175), with public comments accepted through March 1, 2018. A separate final rule will be published to approve changes to the Area 2A CSP and to implement the portions of the CSP and management measures that are not implemented through the IPHC annual management measures that are published in this final rule. These measures include the sport fishery allocations and management measures for Area 2A. Once published, the final rule implementing the Area 2A CSP will be available on the NOAA Fisheries West Coast Region's website at http://www.westcoast.fisheries.noaa.gov/fisheries/management/pacific_halibut_management.html, and under FDMS Docket Number NOAA-NMFS-2017-0157 at www.regulations.gov.

Area 2C and Area 3A Catch Sharing Plans

In 2014, NMFS implemented a CSP for Area 2C and Area 3A. The CSP defines an annual process for allocating halibut between the charter and commercial fisheries in Area 2C and Area 3A, and establishes allocations for each fishery. To allow flexibility for individual commercial and charter fishery participants, the CSP also authorizes annual transfers of commercial halibut IFQ as GAF to charter halibut permit holders for harvest in the charter fishery. Under the CSP, the IPHC recommends combined catch limits (CCLs) for the charter and commercial halibut fisheries in Area 2C and Area 3A. Each CCL includes estimates of discard mortality (wastage) for each fishery. The CSP was implemented to achieve the halibut fishery management goals of the NPFMC. More information is provided in the final rule implementing the CSP (78 FR 75844, December 12, 2013). Implementing regulations for the CSP are at 50 CFR 300.65. The Area 2C and Area 3A CSP allocation tables are located in Tables 1 through 4 of subpart E of 50 CFR part 300.

At its January 2018 annual meeting, the IPHC did not reach agreement or recommend catch limits or CSP allocations between the charter and commercial fisheries for Areas 2C and 3A for the 2018 fishing year. As a result, the Area 2C and 3A CSPs for 2017 remain in effect for 2018 until superseded by an action separate from this final rule. NMFS may implement more restrictive regulations for the fishery for halibut or components of it; therefore, anglers are advised to check the current U.S. Federal and IPHC regulations prior to fishing.

A complete description of the process for setting the 2017 Area 2C and Area 3A CSPs, and the specific details of each area plan, can be found in the Federal Register (82 FR 12730, March 7, 2017). A brief summary of the Area 2C and 3A 2017 catch limits follows here.

In 2017, the IPHC recommended a CCL of 5,250,000 lb (2,381.36 mt) for Area 2C. Following the CSP allocations in Tables 1 and 3 of subpart E of 50 CFR part 300, the charter fishery was allocated 915,000 lb (415.04 mt) of the CCL and the remainder of the CCL, 4,335,000 lb (1,966.32 mt), was allocated to the commercial fishery. Wastage in the amount of 123,000 lb (55.79 mt) was deducted from the commercial allocation to obtain the commercial catch limit of 4,212,000 lb (1,910.53 mt). These Area 2C catch limits for 2017 remain in effect until superseded. NMFS may implement more restrictive regulations for the fishery for halibut or components of it; therefore, anglers are advised to check the current U.S. Federal and IPHC regulations prior to fishing.

Also in 2017, the IPHC recommended a CCL of 10,000,000 lb (4,535.92 mt) for Area 3A. Following the CSP allocations in Tables 2 and 4 of subpart E of 50 CFR part 300, the charter fishery was allocated 1,890,000 lb (857.29 mt) of the CCL and the remainder of the CCL, 8,110,000 lb (3,678.63 mt), was allocated to the commercial fishery. Wastage in the amount of 371,000 lb (168.28 mt) was deducted from the commercial allocation to obtain the commercial catch limit of 7,739,000 lb (3,510.35 mt). These Area 3A catch limits for 2017 remain in effect until superseded by an action separate from this final rule. NMFS may implement more restrictive regulations for the fishery for halibut or components of it; therefore, anglers are advised to check the current U.S. Federal and IPHC regulations prior to fishing.

Charter Halibut Management Measures for Area 2C and Area 3A

Guided (charter) recreational halibut anglers are managed under different regulations than unguided recreational halibut anglers in Areas 2C and 3A in Alaska. According to Federal regulations at 50 CFR 300.61, a charter vessel angler means a person, paying or non-paying, receiving sport fishing guide services for halibut. Sport fishing guide services means assistance, for compensation or with the intent to receive compensation, to a person who is sport fishing, to take or attempt to take halibut by accompanying or physically directing the sport fisherman in sport fishing activities during any part of a charter vessel fishing trip. A charter vessel fishing trip is the time period between the first deployment of fishing gear into the water from a charter vessel by a charter vessel angler and the offloading of one or more charter vessel anglers or any halibut from that vessel. The charter fishery regulations described below apply only to charter vessel anglers receiving sport fishing guide services during a charter vessel fishing trip for halibut in Area 2C or Area 3A. These regulations do not apply to unguided recreational anglers in any regulatory area in Alaska, or guided anglers in areas other than Areas 2C and 3A.

The NPFMC formed the Charter Halibut Management Committee to provide it with recommendations for annual management measures intended to limit charter harvest to the charter catch limit while minimizing negative economic impacts to charter fishery participants in times of low halibut abundance. The committee is composed of representatives from the charter fishing industry in Areas 2C and 3A. The committee considered previously analyzed alternatives and suggested new alternative measures to be analyzed in October 2017. After reviewing an analysis of the effects of the alternative measures on estimated charter removals, the committee made recommendations for preferred management measures to the NPFMC for 2018. The NPFMC considered the recommendations of the committee, its industry advisory body, and public testimony to develop its recommendation to the IPHC, and the IPHC took action consistent with the NPFMC's recommendations. The NPFMC has used this process to select and recommend annual management measures to the IPHC since 2012.

The IPHC recognizes the role of the NPFMC to develop policy and regulations that allocate the Pacific halibut resource among fishermen in and off Alaska, and that NMFS has developed numerous regulations to support the NPFMC's goals of limiting charter harvests.

At its January 2018 annual meeting, the IPHC did not agree upon or recommend catch limits or management measures for the 2018 charter halibut fisheries. As a result, the Areas 2C and 3A charter halibut management measures implemented in 2017 remain in effect for 2018 until superseded by an action separate from this final rule. NMFS may implement more restrictive regulations for the fishery for halibut or components of it; therefore, anglers are advised to check the current U.S. Federal and IPHC regulations prior to fishing.

A complete description of the process for setting the Area 2C and 3A 2017 charter halibut management measures, and the specific details of each area plan, can be found in the Federal Register at (82 FR 12730, March 7, 2017). A brief summary of the Area 2C and Area 3A 2017 halibut charter management measures follows below.

For Area 2C, the 2017 charter halibut management measures consisted of a one-fish daily bag limit with a reverse slot limit that prohibited a person on board a charter vessel from taking or possessing any halibut, with head on, that is greater than 44 inches (111.8 cm) and less than 80 inches (203.2 cm), as measured in a straight line, passing over the pectoral fin from the tip of the lower jaw with mouth closed, to the extreme end of the middle of the tail. For Area 3A, the 2017 the charter halibut management measures included: (1) A two-fish daily bag limit with a 28-inch (71.1 cm) size limit on one of the halibut; (2) a four-fish an annual limit, with a reporting requirement. (3) a one-trip per day limit for the entire season; (4) no retention of halibut on Wednesdays for the entire season; and, (5) no retention of halibut for three Tuesdays in 2017.

Other Regulatory Amendments

Although IPHC did not recommend new catch limits, or revised CSPs for Area 2C and 3A and for Areas 4C, 4D, and 4E, or revisions to charter halibut management measures in Areas 2C and 3A, the IPHC did recommend several amendments to the 2018 annual management measures. In addition to approving new halibut fishery opening and closing dates (described above), the other approved amendments are as follows:

Clarify the Head-On Weighing Requirement

Beginning in 2017, regulations in Section 14 (formerly Section 13) have required that all commercial Pacific halibut must be landed and weighed with their heads attached (head-on) for data reporting purposes. The head-on requirement is intended to improve the estimates of the weight of landed halibut. At the January 2018 annual IPHC meeting, the IPHC recommended revisions to Section 18(5) and 18(6) to clarify that the catch reporting requirements in these sections require head-on landing and weighing. The revisions specify that (1) all commercial halibut landed in Alaska regulatory areas must be weighed with the head on, and (2) the head-on weight must be reported in the applicable catch report. The regulations at Section 14(2) provides the following exception to the head-on requirement: Pacific halibut frozen at sea with its head removed may be possessed on board a vessel by persons in IPHC Regulatory Areas 2B, 2C, 3A, 3B, 4A, 4B, 4C, 4D, and 4E if authorized by Federal regulations.

Allow CDQ Groups To Lease Halibut QS in Areas 4B, 4C, and 4D

In June 2017, the NPFMC took final action to allow CDQ groups to lease (to receive by transfer) halibut catcher vessel IFQ in Areas 4B, 4C, and 4D in years of low halibut catch limits. This action is intended to provide additional harvest opportunities to CDQ groups and provide IFQ holders with the opportunity to receive value for their IFQ when the halibut catch limits may not be large enough to provide for an economically viable fishery for IFQ holders. Under current NMFS regulations, CDQ groups cannot receive by transfer any IFQ derived from catcher vessel QS. These restrictions limit the options for CDQ groups to expand opportunities for halibut fishing for residents in times of low halibut abundance. The Council's action authorizes CDQ groups to receive IFQ by transfer in Areas 4B, 4C, and 4D in years of low Pacific halibut catch limits in Areas 4B and 4CDE.

Low Pacific halibut catch limits triggering this provision would be 1,000,000 pounds (453.59 t) in Area 4B and 1,500,000 pounds (680.39 t) in the combined Area 4CDE. A CDQ group may lease catcher vessel IFQ only in areas it is allocated Pacific halibut CDQ. Only vessels equal to or under 51 feet length overall would be eligible to harvest the leased IFQ. Vessels must comply with IFQ use restrictions for all IFQ received by transfer.

NMFS is currently developing a proposed rule to implement the Council's recommendation. As part of its action, the Council recommended that any Area 4D IFQ transferred to a CDQ group may be fished in Area 4E by vessels less than or equal to 51 feet in length overall (LOA) when the low catch limit threshold in Area 4CDE is triggered. The Council recommended this provision to provide additional harvest opportunities for CDQ residents to use Area 4D IFQ in Area 4E consistent with regulations that allow Area 4D CDQ to be used in Area 4E. Implementation of this provision requires revisions to IPHC regulations.

At the January 2018 annual IPHC meeting, the IPHC recommended revisions to Sections (8)(1) and (8)(3) to revise its regulations for consistency with NMFS regulations if a final rule is approved to implement the Council's recommendations. The revisions to IPHC regulations clarify that the retention and catch reporting requirements of halibut taken for personal use in Areas 4E and 4D also apply to halibut that are taken by persons who are fishing IFQ that is received by transfer by a CDQ organization. The IPHC also recommended revisions to the Areas 4D and 4E catch limit calculations in Section 12(8) to include the harvest resulting from IFQ received by transfer by a CDQ organization. Individual Fishing Quota that is designated for Area 4D may continue to be harvested in Area 4E, and the total allowable catch of halibut that may be taken in the Area 4E directed commercial fishery is equal to the combined annual catch limits specified for the Areas 4D and 4E CDQ fisheries and any Area 4D IFQ received by transfer by a CDQ organization.

Clarify Halibut Retention Requirements for Charter Vessel Anglers

At the IPHC's January 2018 annual meeting, the IPHC recommended a revision to Section 29(1)(f) of IPHC regulations to clarify that halibut harvested on a charter vessel fishing trip in Area 2C or Area 3A must be retained on board the charter vessel on which the halibut was caught until the end of the charter vessel fishing trip as defined at 50 CFR 300.61. To accomplish this clarification, the word “all” was deleted from Section 28(1)(f) to distinguish the requirement in Section 28(1)(f) to retain halibut on board a charter vessel until the end of a charter trip from the requirement to retain carcasses for size-restricted halibut (see 50 CFR 300.65(d)(5)).

Clarify Filleting at Sea Requirements

IPHC regulations at Section 29(1)(d) say that no person shall possess on board a vessel, including charter vessels and pleasure craft used for fishing, halibut that have been filleted, mutilated, or otherwise disfigured in any manner, except that each piece maybe cut into no more than 2 ventral pieces, 2 dorsal pieces, and 2 cheek pieces, with skin on all pieces. While this regulation is necessary for a proper accounting of fish on board a vessel and the enforcement of daily bag and possession limits, the precise amount of skin that must be left on each piece of halibut is not defined. Given that the purpose of the skin-on requirement is to distinguish pieces of halibut from the dorsal and ventral sides of the fish, it is not necessary to require all the skin to be left on all the pieces. To clarify the regulation, the IPHC determined that a patch of skin that is naturally attached on each piece of halibut that is cut into pieces as described in Section 29(1)(d) is adequate to satisfy the intent of the regulation.

Authorize Halibut To Be Taken With Pot Gear

On December 28, 2016, NMFS published a final rule to authorize longline pot gear for the IFQ sablefish fishery in the Gulf of Alaska (81 FR 95435). The Gulf of Alaska sablefish fishery takes place in a portion of Area 2C (not including the inside waters), all of Areas 3A, 3B, and that portion of 4A in the Gulf of Alaska west of Area 3B and east of 170°00′ W longitude. The NMFS final rule also requires retention of halibut caught incidentally in longline pot gear subject to current retention requirements for the halibut IFQ Program (i.e., only if the halibut are of legal size and a person(s) on the vessel holds sufficient halibut IFQ). This recommendation is intended to avoid discard mortality of legal-size halibut caught incidentally in longline pots in the sablefish IFQ fishery, similar to current regulations that authorize sablefish and halibut IFQ holders using hook-and-line gear to retain legal-size halibut caught incidentally during the sablefish IFQ fishery. At its 2016 annual meeting, the IPHC recommended approval of longline pot gear, as defined by NMFS, as legal gear for the commercial halibut fishery in Alaska when NMFS regulations permit the use of this gear in the IFQ sablefish fishery.

At its 2018 annual meeting, the IPHC received a proposal for additional regulatory revisions that would allow halibut taken with pot gear to be retained in the Bering Sea and Aleutian Islands. The proposal was prompted by evidence of conflicts with whale depredation of halibut on longline gear and referenced the Council's consideration of an action to authorize longline pot gear for the IFQ sablefish fishery in the Bering Sea and Aleutian Islands. After considering the proposal, the IPHC recommended changes to Section 20 (Fishing Gear) in parts (1)(b) and (2)(b) to authorize longline or single pot gear and struck the phrase that restricted retention of halibut taken in pot gear to only pot gear used the sablefish IFQ fishery. In recommending these changes, the IPHC noted the existing references in each subsection that allow pots to be used for halibut fishing “if such retention is authorized by NMFS regulations published at 50 CFR part 679”. Therefore, the regulatory revisions continue to authorize retention of halibut in the GOA sablefish IFQ fishery consistent with NMFS regulations. The revisions also would accommodate a potential future Council recommendation and NMFS implementation of regulations to authorize retention of halibut taken in pot gear in the Bering Sea and Aleutian Islands.

Changes to Area 3A Closure Dates for 2018

Annual management measures in the charter halibut fishery are implemented to limit the charter sector to its harvest allocation under the CSP with the commercial halibut fishery. The management measures are recommended to the NPFMC by its Charter Halibut Management Committee. In recent years, one of the measures the Committee and the IPHC has recommended are closures on specific days of the week in Area 3A as a means to reduce the total charter sector harvest. In 2017, the management measures called for closures to halibut retention by charter vessel anglers on all Wednesdays over the entire season, and on three Tuesdays in July and August. As described in detail above, the IPHC did not adopt charter halibut management measures for 2018; as such, the management measures for 2017 remain in effect unless superseded by an action separate from this final rule. The regulatory revision recommended by the IPHC changes the reference dates published in the 2017 IPHC regulations to ensure that all the dates of the Tuesdays' closures fall on Tuesdays. If left unchanged, the three dates as written in the 2017 IPHC regulations would fall on Wednesdays in 2018. The revised dates are changed from 18 July, 25 July, and 1 August to 17 July, 24 July, and 31 July.

Annual Halibut Management Measures

The following annual management measures for the 2018 Pacific halibut fishery are those recommended by the IPHC and accepted by the Secretary of State, with the concurrence of the Secretary of Commerce.

1. Short Title

These Regulations may be cited as the Pacific Halibut Fishery Regulations

2. Application

(1) These Regulations apply to persons and vessels fishing for Pacific halibut in, or possessing Pacific halibut taken from, the maritime area as defined in Section 3.

(2) Sections 3 to 7 apply generally to all Pacific halibut fishing.

(3) Sections 8 to 21 apply to commercial fishing for Pacific halibut.

(4) Section 22 applies to tagged Pacific halibut caught by any vessel.

(5) Section 23 applies to the United States treaty Indian fishery in Subarea 2A-1.

(6) Section 24 applies to customary and traditional fishing in Alaska.

(7) Section 25 applies to Aboriginal groups fishing for food, social and ceremonial purposes in British Columbia.

(8) Sections 26 to 29 apply to sport fishing for Pacific halibut.

(9) These Regulations do not apply to fishing operations authorized or conducted by the Commission for research purposes.

3. Definitions

(1) In these Regulations,

(a) “authorized officer” means any State, Federal, or Provincial officer authorized to enforce these Regulations including, but not limited to, the National Marine Fisheries Service (NMFS), Canada's Department of Fisheries and Oceans (DFO), Alaska Wildlife Troopers (AWT), United States Coast Guard (USCG), Washington Department of Fish and Wildlife (WDFW), the Oregon State Police (OSP), and California Department of Fish and Wildlife (CDFW);

(b) “authorized clearance personnel” means an authorized officer of the United States, a representative of the Commission, or a designated fish processor;

(c) “charter vessel” outside of Alaska waters means a vessel used for hire in sport fishing for Pacific halibut, but not including a vessel without a hired operator, and in Alaska waters means a vessel used while providing or receiving sport fishing guide services for Pacific halibut;

(d) “commercial fishing” means fishing, the resulting catch of which is sold or bartered; or is intended to be sold or bartered, other than (i) sport fishing, (ii) treaty Indian ceremonial and subsistence fishing as referred to in section 23, (iii) customary and traditional fishing as referred to in section 24 and defined by and regulated pursuant to NMFS regulations published at 50 CFR part 300, and (iv) Aboriginal groups fishing in British Columbia as referred to in section 25;

(e) “Commission” or “IPHC” means the International Pacific Halibut Commission;

(f) “daily bag limit” means the maximum number of Pacific halibut a person may take in any calendar day from Convention waters;

(g) “fishing” means the taking, harvesting, or catching of fish, or any activity that can reasonably be expected to result in the taking, harvesting, or catching of fish, including specifically the deployment of any amount or component part of gear anywhere in the maritime area;

(h) “fishing period limit” means the maximum amount of Pacific halibut that may be retained and landed by a vessel during one fishing period;

(i) “land” or “offload” with respect to Pacific halibut, means the removal of halibut from the catching vessel;

(j) “license” means a Pacific halibut fishing license issued by the Commission pursuant to section 5;

(k) “maritime area”, in respect of the fisheries jurisdiction of a Contracting Party, includes without distinction areas within and seaward of the territorial sea and internal waters of that Party;

(l) “net weight” of a Pacific halibut means the weight of Pacific halibut that is without gills and entrails, head-off, washed, and without ice and slime. If a Pacific halibut is weighed with the head on or with ice and slime, the required conversion factors for calculating net weight are a 2 percent deduction for ice and slime and a 10 percent deduction for the head;

(m) “operator”, with respect to any vessel, means the owner and/or the master or other individual on board and in charge of that vessel;

(n) “overall length” of a vessel means the horizontal distance, rounded to the nearest foot, between the foremost part of the stem and the aftermost part of the stern (excluding bowsprits, rudders, outboard motor brackets, and similar fittings or attachments);

(o) “person” includes an individual, corporation, firm, or association;

(p) “regulatory area” means an IPHC Regulatory Area referred to in section 7;

(q) “setline gear” means one or more stationary, buoyed, and anchored lines with hooks attached;

(r) “sport fishing” or “recreational fishing” means all fishing other than (i) commercial fishing, (ii) treaty Indian ceremonial and subsistence fishing as referred to in section 23, (iii) customary and traditional fishing as referred to in section 24 and defined in and regulated pursuant to NMFS regulations published in 50 CFR part 300, and (iv) Aboriginal groups fishing in British Columbia as referred to in section 25;

(s) “tender” means any vessel that buys or obtains fish directly from a catching vessel and transports it to a port of landing or fish processor;

(t) “VMS transmitter” means a NMFS-approved vessel monitoring system transmitter that automatically determines a vessel's position and transmits it to a NMFS-approved communications service provider.¹

¹ Call NOAA Enforcement Division, Alaska Region, at 907-586-7225 between the hours of 0800 and 1600 local time for a list of NMFS-approved VMS transmitters and communications service providers.

(2) In these Regulations, all bearings are true and all positions are determined by the most recent charts issued by the United States National Ocean Service or the Canadian Hydrographic Service.

4. Limits

(1) The fishery limits resulting from the IPHC-adopted values and the Contracting Party catch sharing arrangements are as follows:

IPHC Regulatory Area | Fishery limits (net weight): Pounds (lbs) | Fishery limits (net weight): Metric tons (t)
Area 2A (California, Oregon, Washington) | 1,330,000 | 603.28
Non-treaty directed commercial (south of Pt. Chehalis) | 225,591 | 102.33
Non-treaty incidental catch in salmon troll fishery | 39,810 | 18.06
Non-treaty incidental catch in sablefish fishery (north of Pt. Chehalis) | 70,000 | 31.75
Treaty Indian commercial | 435,900 | 197.72
Treaty Indian ceremonial and subsistence (year-round) | 29,600 | 13.43
Recreational—Washington | 237,762 | 107.85
Recreational—Oregon | 256,757 | 116.46
Recreational—California | 34,580 | 15.69
Area 2B (British Columbia)(includes recreational catch allocation) | 7,450,000 | 3,379.27
Area 2C (southeastern Alaska) (combined commercial/guided recreational) | 5,250,000 | 2,381.36
Commercial fishery (4,212,000 catch and 123,000 incidental mortality) | 4,335,000 | 1,966.33
Guided sport fishery (includes catch and incidental mortality) | 915,000 | 415.04
Area 3A (central Gulf of Alaska) (combined commercial/guided recreational) | 10,000,000 | 4,535.93
Commercial fishery (7,739,000 catch and 371,000 incidental mortality) | 8,110,000 | 3,678.64
Guided recreational fishery (includes catch and incidental mortality) | 1,890,000 | 857.29
Area 3B (western Gulf of Alaska) | 3,140,000 | 1,424.28
Area 4A (eastern Aleutians) | 1,390,000 | 630.49
Area 4B (central/western Aleutians) | 1,140,000 | 517.10
Area 4CDE | 1,700,000 | 771.11
Area 4C (Pribilof Islands) | 752,000 | 341.10
Area 4D (northwestern Bering Sea) | 752,000 | 341.10
Area 4E (Bering Sea flats) | 196,000 | 88.90
Total | 31,400,000 | 14,242.82

5. Licensing Vessels for IPHC Regulatory Area 2A

(1) No person shall fish for Pacific halibut from a vessel, nor possess Pacific halibut on board a vessel, used either for commercial fishing or as a charter vessel in IPHC Regulatory Area 2A, unless the Commission has issued a license valid for fishing in IPHC Regulatory Area 2A in respect of that vessel.

(2) A license issued for a vessel operating in IPHC Regulatory Area 2A shall be valid only for operating either as a charter vessel or a commercial vessel, but not both.

(3) A vessel with a valid IPHC Regulatory Area 2A commercial license cannot be used to sport fish for Pacific halibut in IPHC Regulatory Area 2A.

(4) A license issued for a vessel operating in the commercial fishery in Area 2A shall be valid for one of the following:

(a) The directed commercial fishery during the fishing periods specified in paragraph (2) of section 9;

(b) the incidental catch fishery during the sablefish fishery specified in paragraph (3) of section 9; or

(c) the incidental catch fishery during the salmon troll fishery specified in paragraph (4) of section 9.

(5) No person may apply for or be issued a license for a vessel operating in the incidental catch fishery during the salmon troll fishery in paragraph (4)(c), if that vessel was previously issued a license for either the directed commercial fishery in paragraph (4)(a) or the incidental catch fishery during the sablefish fishery in paragraph (4)(b).

(6) A license issued in respect to a vessel referred to in paragraph (1) of this section must be carried on board that vessel at all times and the vessel operator shall permit its inspection by any authorized officer.

(7) The Commission shall issue a license in respect to a vessel, without fee, from its office in Seattle, Washington, upon receipt of a completed, written, and signed “Application for Vessel License for the Pacific Halibut Fishery” form.

(8) A vessel operating in the directed commercial fishery in IPHC Regulatory Area 2A must have its “Application for Vessel License for the Pacific Halibut Fishery” form postmarked no later than 2359 hours local time on 30 April, or the first weekday in May if 30 April is a Saturday or Sunday.

(9) A vessel operating in the incidental catch fishery during the sablefish fishery in IPHC Regulatory Area 2A must have its “Application for Vessel License for the Pacific Halibut Fishery” form postmarked no later than 2359 hours local time on 15 March, or the next weekday in March if 15 March is a Saturday or Sunday.

(10) A vessel operating in the incidental catch fishery during the salmon troll fishery in IPHC Regulatory Area 2A must have its “Application for Vessel License for the Pacific Halibut Fishery” form postmarked no later than 2359 hours local time on 15 March, or the next weekday in March if 15 March is a Saturday or Sunday.

(11) Application forms may be obtained from any authorized officer or from the IPHC Secretariat.

(12) Information on “Application for Vessel License for the Pacific Halibut Fishery” form must be accurate.

(13) The “Application for Vessel License for the Pacific Halibut Fishery” form shall be completed and signed by the vessel owner.

(14) Licenses issued under this section shall be valid only during the year in which they are issued.

(15) A new license is required for a vessel that is sold, transferred, renamed, or the documentation is changed.

(16) The license required under this section is in addition to any license, however designated, that is required under the laws of the United States or any of its States.

(17) The United States may suspend, revoke, or modify any license issued under this section under policies and procedures in U.S. Code Title 15, CFR part 904.

6. In-Season Actions

(1) The Commission is authorized to establish or modify regulations during the season after determining that such action:

(a) Will not result in exceeding the catch limit established preseason for each IPHC Regulatory Area;

(b) is consistent with the Convention between Canada and the United States of America for the Preservation of the Halibut Fishery of the Northern Pacific Ocean and Bering Sea, and applicable domestic law of either Canada or the United States of America; and

(c) is consistent, to the maximum extent practicable, with any domestic catch sharing plans or other domestic allocation programs developed by the United States or Canadian governments.

(2) In-season actions may include, but are not limited to, establishment or modification of the following:

(a) Closed areas;

(b) fishing periods;

(c) fishing period limits;

(d) gear restrictions;

(e) recreational bag limits;

(f) size limits; or

(g) vessel clearances.

(3) In-season changes will be effective at the time and date specified by the Commission.

(4) The Commission will announce in-season actions under this section by providing notice to major Pacific halibut processors; Federal, State, United States treaty Indian, and Provincial fishery officials; and the media.

7. Regulatory Areas

The following areas shall be IPHC Regulatory Areas (see Figure 1) for the purposes of the Convention:

(1) IPHC Regulatory Area 2A includes all waters off the states of California, Oregon, and Washington;

(2) IPHC Regulatory Area 2B includes all waters off British Columbia;

(3) IPHC Regulatory Area 2C includes all waters off Alaska that are east of a line running 340° true from Cape Spencer Light (58°11′56″ N latitude, 136°38′26″ W longitude) and south and east of a line running 205° true from said light;

(4) IPHC Regulatory Area 3A includes all waters between Area 2C and a line extending from the most northerly point on Cape Aklek (57°41′15″ N latitude, 155°35′00″ W longitude) to Cape Ikolik (57°17′17″ N latitude, 154°47′18″ W longitude), then along the Kodiak Island coastline to Cape Trinity (56°44′50″ N latitude, 154°08′44″ W longitude), then 140° true;

(5) IPHC Regulatory Area 3B includes all waters between Area 3A and a line extending 150° true from Cape Lutke (54°29′00″ N latitude, 164°20′00″ W longitude) and south of 54°49′00″ N latitude in Isanotski Strait;

(6) IPHC Regulatory Area 4A includes all waters in the Gulf of Alaska west of Area 3B and in the Bering Sea west of the closed area defined in section 10 that are east of 172°00′00″ W longitude and south of 56°20′00″ N latitude;

(7) IPHC Regulatory Area 4B includes all waters in the Bering Sea and the Gulf of Alaska west of IPHC Regulatory Area 4A and south of 56°20′00″ N latitude;

(8) IPHC Regulatory Area 4C includes all waters in the Bering Sea north of IPHC Regulatory Area 4A and north of the closed area defined in section 10 which are east of 171°00′00″ W longitude, south of 58°00′00″ N latitude, and west of 168°00′00″ W longitude;

(9) IPHC Regulatory Area 4D includes all waters in the Bering Sea north of IPHC Regulatory Areas 4A and 4B, north and west of IPHC Regulatory Area 4C, and west of 168°00′00″ W longitude; and

(10) Area 4E includes all waters in the Bering Sea north and east of the closed area defined in section 10, east of 168°00′00″ W longitude, and south of 65°34′00″ N latitude.

8. Fishing in Regulatory IPHC Regulatory Areas 4E and 4D

(1) Section 8 applies only to any person fishing for, or any vessel that is used to fish for, IPHC Regulatory Area 4E Community Development Quota (CDQ) Pacific halibut, IPHC Regulatory Area 4D CDQ Pacific halibut, or IPHC Regulatory Area 4D IFQ received by transfer by a CDQ organization provided that the total annual halibut catch of that person or vessel is landed at a port within IPHC Regulatory Areas 4E or 4D.

(2) A person may retain Pacific halibut taken with setline gear that are smaller than the size limit specified in section 14, provided that no person may sell or barter such Pacific halibut.

(3) The manager of a CDQ organization that authorizes persons to harvest Pacific halibut in the IPHC Regulatory Area 4E or 4D CDQ fisheries or IFQ received by transfer by a CDQ organization must report to the Commission the total number and weight of undersized Pacific halibut taken and retained by such persons pursuant to section 8, paragraph (2). This report, which shall include data and methodology used to collect the data, must be received by the Commission prior to 1 November of the year in which such Pacific halibut were harvested.

9. Fishing Periods

(1) The fishing periods for each regulatory area apply where the catch limits specified in section 12 have not been taken.

(2) Each fishing period in the IPHC Regulatory Area 2A directed commercial fishery ² shall begin at 0800 hours and terminate at 1800 hours local time on 27 June, 11 July, 25 July, 8 August, 22 August, 5 September, and 19 September, unless the Commission specifies otherwise.

² The directed fishery is restricted to waters that are south of Point Chehalis, Washington, (46°53.30′ N latitude) under regulations promulgated by NMFS and published in the Federal Register.

(3) Notwithstanding paragraph (7) of section 12, an incidental catch fishery ³ is authorized during the sablefish seasons in Area 2A in accordance with regulations promulgated by NMFS. This fishery will occur between 1200 hours local time on 24 March and 1200 hours local time on 7 November.

³ The incidental fishery during the directed, fixed gear sablefish season is restricted to waters that are north of Point Chehalis, Washington, (46°53.30′ N latitude) under regulations promulgated by NMFS at 50 CFR 300.63. Landing restrictions for Pacific halibut retention in the fixed gear sablefish fishery can be found at 50 CFR 660.231.

(4) Notwithstanding paragraph (2), and paragraph (7) of section 12, an incidental catch fishery is authorized during salmon troll seasons in Area 2A in accordance with regulations promulgated by NMFS. This fishery will occur between 1200 hours local time on 24 March and 1200 hours local time on 7 November.

(5) The fishing period in IPHC Regulatory Areas 2B, 2C, 3A, 3B, 4A, 4B, 4C, 4D, and 4E shall begin at 1200 hours local time on 24 March and terminate at 1200 hours local time on 7 November, unless the Commission specifies otherwise.

(6) All commercial fishing for Pacific halibut in IPHC Regulatory Areas 2A, 2B, 2C, 3A, 3B, 4A, 4B, 4C, 4D, and 4E shall cease at 1200 hours local time on 7 November.

10. Closed Periods

(1) No person shall engage in fishing for Pacific halibut in any IPHC Regulatory Area other than during the fishing periods set out in section 9 in respect of that area.

(2) No person shall land or otherwise retain Pacific halibut caught outside a fishing period applicable to the regulatory area where the Pacific halibut was taken.

(3) Subject to paragraphs (7), (8), (9), and (10) of section 20, these Regulations do not prohibit fishing for any species of fish other than Pacific halibut during the closed periods.

(4) Notwithstanding paragraph (3), no person shall have Pacific halibut in his/her possession while fishing for any other species of fish during the closed periods.

(5) No vessel shall retrieve any Pacific halibut fishing gear during a closed period if the vessel has any Pacific halibut on board.

(6) A vessel that has no Pacific halibut on board may retrieve any Pacific halibut fishing gear during the closed period after the operator notifies an authorized officer or representative of the Commission prior to that retrieval.

(7) After retrieval of Pacific halibut gear in accordance with paragraph (6), the vessel shall submit to a hold inspection at the discretion of the authorized officer or representative of the Commission.

(8) No person shall retain any Pacific halibut caught on gear retrieved in accordance with paragraph (6).

(9) No person shall possess Pacific halibut on board a vessel in a regulatory area during a closed period unless that vessel is in continuous transit to or within a port in which that Pacific halibut may be lawfully sold.

11. Closed Area

All waters in the Bering Sea north of 55°00′00″ N latitude in Isanotski Strait that are enclosed by a line from Cape Sarichef Light (54°36′00″ N latitude, 164°55′42″ W longitude) to a point at 56°20′00″ N latitude, 168°30′00″ W longitude; thence to a point at 58°21′25″ N latitude, 163°00′00″ W longitude; thence to Strogonof Point (56°53′18″ N latitude, 158°50′37″ W longitude); and then along the northern coasts of the Alaska Peninsula and Unimak Island to the point of origin at Cape Sarichef Light are closed to Pacific halibut fishing and no person shall fish for Pacific halibut therein or have Pacific halibut in his/her possession while in those waters except in the course of a continuous transit across those waters. All waters in Isanotski Strait between 55°00′00″ N latitude and 54°49′00″ N latitude are closed to Pacific halibut fishing.

12. Commercial Catch Limits

(1) The total allowable commercial catch of Pacific halibut to be taken during the commercial Pacific halibut fishing periods specified in section 9 shall be limited to the net weights expressed in pounds or metric tons shown in the following table:

⁴ IPHC allocates the catch limit to IPHC Regulatory Area 2B as a combined commercial and sport catch limit (7,450,000 pounds). DFO allocates that amount between commercial and sport according to their allocation policy. In addition to the commercial fishery amount, 60,000 pounds has been allocated for research purposes. This amount also excludes any overage/underage adjustments. See section 28 for sport fishing regulations.

⁵ For IPHC Regulatory Area 2C, the commercial catch limit adopted by the Commission includes catch (4,212,000 pounds) reported in the table plus estimated incidental mortality from the commercial fishery (123,000 pounds) for a total of 4,335,000 pounds. This total amount is included in the combined commercial and guided sport sector catch limit set by IPHC and allocated by NMFS by a catch sharing plan (5,250,000 pounds).

⁶ For IPHC Regulatory Area 3A, the commercial catch limit adopted by the Commission includes catch (7,739,000 pounds) reported in the table plus estimated incidental mortality from the commercial fishery (371,000 pounds) for a total of 8,110,000 pounds. This total amount is included in the combined commercial and guided sport sector catch limit set by IPHC and allocated by NMFS by a catch sharing plan (10,000,000 pounds).

IPHC Regulatory Area | Commercial catch limit— net weight: Pounds | Commercial catch limit— net weight: Metric tons
2A: Directed commercial, and incidental commercial catch during salmon troll fishery | 265,402 | 120.38
2A: Incidental commercial during sablefish fishery | 70,000 | 31.75
2B ⁴ | 6,271,971 | 2,844.92
2C ⁵ | 4,212,000 | 1,910.53
3A ⁶ | 7,739,000 | 3,510.36
3B | 3,140,000 | 1,424.28
4A | 1,390,000 | 630.49
4B | 1,140,000 | 517.09
4C | 752,000 | 341.10
4D | 752,000 | 341.10
4E | 196,000 | 88.90

(2) Notwithstanding paragraph (1), regulations pertaining to the division of the IPHC Regulatory Area 2A catch limit between the directed commercial fishery and the incidental catch fishery as described in paragraph (4) of section 9 will be promulgated by NMFS and published in the Federal Register.

(3) The Commission shall determine and announce to the public the date on which the catch limit for IPHC Regulatory Area 2A will be taken.

(4) Notwithstanding paragraph (1), the commercial fishing in IPHC Regulatory Area 2B will close only when all Individual Vessel Quotas (IVQs) assigned by DFO are taken, or 7 November, whichever is earlier.

(5) Notwithstanding paragraph (1), IPHC Regulatory Areas 2C, 3A, 3B, 4A, 4B, 4C, 4D, and 4E will each close only when all Individual Fishing Quotas (IFQ) and all CDQs issued by NMFS have been taken, or 7 November, whichever is earlier.

(6) If the Commission determines that the catch limit specified for IPHC Regulatory Area 2A in paragraph (1) would be exceeded in an unrestricted 10-hour fishing period as specified in paragraph (2) of section 9, the catch limit for that area shall be considered to have been taken and the directed commercial fishery closed as announced by the Commission.

(7) When under paragraphs (2), (3), and (6) the Commission has announced a date on which the catch limit for IPHC Regulatory Area 2A will be taken, no person shall fish for Pacific halibut in that area after that date for the rest of the year, unless the Commission has announced the reopening of that area for Pacific halibut fishing.

(8) Notwithstanding paragraph (1), the total allowable catch of Pacific halibut that may be taken in the IPHC Regulatory Area 4E directed commercial fishery is equal to the combined annual catch limits specified for the IPHC Regulatory Areas 4D and 4E CDQ fisheries and any IPHC Regulatory Area 4D IFQ received by transfer by a CDQ organization. The annual IPHC Regulatory Area 4D catch limit will decrease by the equivalent amount of CDQ and IFQ received by transfer by a CDQ organization taken in IPHC Regulatory Area 4E in excess of the annual IPHC Regulatory Area 4E catch limit.

(9) Notwithstanding paragraph (1), the total allowable catch of Pacific halibut that may be taken in the IPHC Regulatory Area 4D directed commercial fishery is equal to the combined annual catch limits specified for IPHC Regulatory Areas 4C and 4D. The annual IPHC Regulatory Area 4C catch limit will decrease by the equivalent amount of Pacific halibut taken in IPHC Regulatory Area 4D in excess of the annual IPHC Regulatory Area 4D catch limit.

13. Fishing Period Limits

(1) It shall be unlawful for any vessel to retain more Pacific halibut than authorized by that vessel's license in any fishing period for which the Commission has announced a fishing period limit.

(2) The operator of any vessel that fishes for Pacific halibut during a fishing period when fishing period limits are in effect must, upon commencing an offload of Pacific halibut to a commercial fish processor, completely offload all Pacific halibut on board said vessel to that processor and ensure that all Pacific halibut is weighed and reported on State fish tickets.

(3) The operator of any vessel that fishes for Pacific halibut during a fishing period when fishing period limits are in effect must, upon commencing an offload of Pacific halibut other than to a commercial fish processor, completely offload all Pacific halibut on board said vessel and ensure that all Pacific halibut are weighed and reported on State fish tickets.

(4) The provisions of paragraph (3) are not intended to prevent retail over-the-side sales to individual purchasers so long as all the Pacific halibut on board is ultimately offloaded and reported.

(5) When fishing period limits are in effect, a vessel's maximum retainable catch will be determined by the Commission based on:

(a) The vessel's overall length in feet and associated length class;

(b) the average performance of all vessels within that class; and

(c) the remaining catch limit.

(6) Length classes are shown in the following table:

Overall length (in feet) | Vessel class
1-25 | A
26-30 | B
31-35 | C
36-40 | D
41-45 | E
46-50 | F
51-55 | G
56+ | H

(7) Fishing period limits in IPHC Regulatory Area 2A apply only to the directed Pacific halibut fishery referred to in paragraph (2) of section 9.

14. Size Limits

(1) No person shall take or possess any Pacific halibut that:

(a) With the head on, is less than 32 inches (81.3 cm) as measured in a straight line, passing over the pectoral fin from the tip of the lower jaw with the mouth closed, to the extreme end of the middle of the tail, as illustrated in Figure 2; or

(b) with the head removed, is less than 24 inches (61.0 cm) as measured from the base of the pectoral fin at its most anterior point to the extreme end of the middle of the tail, as illustrated in Figure 2.

(2) No person on board a vessel fishing for, or tendering, Pacific halibut in any IPHC Regulatory Area shall possess any Pacific halibut that has had its head removed, except that Pacific halibut frozen at sea with its head removed may be possessed on board a vessel by persons in IPHC Regulatory Areas 2B, 2C, 3A, 3B, 4A, 4B, 4C, 4D, and 4E if authorized by Federal regulations.

(3) The size limit in paragraph (1)(b) will not be applied to any Pacific halibut that has had its head removed after the operator has landed the Pacific halibut.

15. Careful Release of Pacific Halibut

(1) All Pacific halibut that are caught and are not retained shall be immediately released outboard of the roller and returned to the sea with a minimum of injury by:

(a) Hook straightening;

(b) cutting the gangion near the hook; or

(c) carefully removing the hook by twisting it from the Pacific halibut with a gaff.

(2) Except that paragraph (1) shall not prohibit the possession of Pacific halibut on board a vessel that has been brought aboard to be measured to determine if the minimum size limit of the Pacific halibut is met and, if sublegal-sized, is promptly returned to the sea with a minimum of injury.

16. Vessel Clearance in IPHC Regulatory Area 4

(1) The operator of any vessel that fishes for Pacific halibut in IPHC Regulatory Areas 4A, 4B, 4C, or 4D must obtain a vessel clearance before fishing in any of these areas, and before the landing of any Pacific halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in IPHC Regulatory Area 4A may be obtained only at Nazan Bay on Atka Island, Dutch Harbor or Akutan, Alaska, from an authorized officer of the United States, a representative of the Commission, or a designated fish processor.

(4) The vessel clearance required under paragraph (1) prior to fishing in IPHC Regulatory Area 4B may only be obtained at Nazan Bay on Atka Island or Adak, Alaska, from an authorized officer of the United States, a representative of the Commission, or a designated fish processor.

(5) The vessel clearance required under paragraph (1) prior to fishing in IPHC Regulatory Area 4C or 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any Pacific halibut caught in IPHC Regulatory Area 4A, a vessel operator may obtain the clearance required under paragraph (1) only in Dutch Harbor or Akutan, Alaska, by contacting an authorized officer of the United States, a representative of the Commission, or a designated fish processor.

(8) Before unloading any Pacific halibut caught in IPHC Regulatory Area 4B, a vessel operator may obtain the clearance required under paragraph (1) only in Nazan Bay on Atka Island or Adak, by contacting an authorized officer of the United States, a representative of the Commission, or a designated fish processor by VHF radio or in person.

(9) Before unloading any Pacific halibut caught in IPHC Regulatory Areas 4C and 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 19 for possessing Pacific halibut on board a vessel that was caught in more than one regulatory area in IPHC Regulatory Area 4 is exempt from the clearance requirements of paragraph (1) of this section, provided that:

(a) The operator of the vessel obtains a vessel clearance prior to fishing in IPHC Regulatory Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the areas in which the vessel will fish; and

(b) before unloading any Pacific halibut from IPHC Regulatory Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No Pacific halibut shall be on board the vessel at the time of the clearances required prior to fishing in IPHC Regulatory Area 4.

(13) Any vessel that is used to fish for Pacific halibut only in IPHC Regulatory Area 4A and lands its total annual Pacific halibut catch at a port within IPHC Regulatory Area 4A is exempt from the clearance requirements of paragraph (1).

(14) Any vessel that is used to fish for Pacific halibut only in IPHC Regulatory Area 4B and lands its total annual Pacific halibut catch at a port within IPHC Regulatory Area 4B is exempt from the clearance requirements of paragraph (1).

(15) Any vessel that is used to fish for Pacific halibut only in IPHC Regulatory Areas 4C or 4D or 4E and lands its total annual Pacific halibut catch at a port within IPHC Regulatory Areas 4C, 4D, 4E, or the closed area defined in section 11, is exempt from the clearance requirements of paragraph (1).

(16) Any vessel that carries a transmitting VMS transmitter while fishing for Pacific halibut in IPHC Regulatory Areas 4A, 4B, 4C, or 4D and until all Pacific halibut caught in any of these areas is landed, is exempt from the clearance requirements of paragraph (1) of this section, provided that:

(a) The operator of the vessel complies with NMFS' vessel monitoring system regulations published at 50 CFR 679.28(f)(3), (4) and (5); and

(b) the operator of the vessel notifies NOAA Fisheries Office for Law Enforcement at 800-304-4846 (select option 1 to speak to an Enforcement Data Clerk) between the hours of 0600 and 0000 (midnight) local time within 72 hours before fishing for Pacific halibut in IPHC Regulatory Areas 4A, 4B, 4C, or 4D and receives a VMS confirmation number.

17. Logs

(1) The operator of any U.S. vessel fishing for Pacific halibut that has an overall length of 26 feet (7.9 meters) or greater shall maintain an accurate log of Pacific halibut fishing operations. The operator of a vessel fishing in waters in and off Alaska must use one of the following logbooks: The Groundfish/IFQ Longline and Pot Gear Daily Fishing Logbook, in electronic or paper form, provided by NMFS; the Alaska hook-and-line logbook provided by Petersburg Vessel Owners Association or Alaska Longline Fisherman's Association; the Alaska Department of Fish and Game (ADFG) longline-pot logbook; or the logbook provided by IPHC. The operator of a vessel fishing in IPHC Regulatory Area 2A must use either the WDFW Voluntary Sablefish Logbook, Oregon Department of Fish and Wildlife (ODFW) Fixed Gear Logbook, or the logbook provided by IPHC.

(2) The logbook referred to in paragraph (1) must include the following information:

(a) The name of the vessel and the State (ADFG, WDFW, ODFW, or CDFW) or Tribal ID number;

(b) the date(s) upon which the fishing gear is set or retrieved;

(c) the latitude and longitude coordinates or a direction and distance from a point of land for each set or day;

(d) the number of skates deployed or retrieved, and number of skates lost; and

(e) the total weight or number of Pacific halibut retained for each set or day.

(3) The logbook referred to in paragraph (1) shall be:

(a) Maintained on board the vessel;

(b) updated not later than 24 hours after 0000 (midnight) local time for each day fished and prior to the offloading or sale of Pacific halibut taken during that fishing trip;

(c) retained for a period of two years by the owner or operator of the vessel;

(d) open to inspection by an authorized officer or any authorized representative of the Commission upon demand; and

(e) kept on board the vessel when engaged in Pacific halibut fishing, during transits to port of landing, and until the offloading of all Pacific halibut is completed.

(4) The log referred to in paragraph (1) does not apply to the incidental Pacific halibut fishery during the salmon troll season in IPHC Regulatory Area 2A defined in paragraph (4) of section 9.

(5) The operator of any Canadian vessel fishing for Pacific halibut shall maintain an accurate record in the British Columbia Integrated Groundfish Fishing Log.

(6) The log referred to in paragraph (5) must include the following information:

(a) The name of the vessel and the DFO vessel registration number;

(b) the date(s) upon which the fishing gear is set and retrieved;

(c) the latitude and longitude coordinates for each set;

(d) the number of skates deployed or retrieved, and number of skates lost; and

(e) the total weight or number of Pacific halibut retained for each set.

(7) The log referred to in paragraph (5) shall be:

(a) Maintained on board the vessel;

(b) retained for a period of two years by the owner or operator of the vessel;

(c) open to inspection by an authorized officer or any authorized representative of the Commission upon demand;

(d) kept on board the vessel when engaged in Pacific halibut fishing, during transits to port of landing, and until the offloading of all Pacific halibut is completed;

(e) submitted to the DFO within seven days of offloading; and

(f) submitted to the Commission within seven days of the final offload if not previously collected by a Commission employee.

(8) No person shall make a false entry in a log referred to in this section.

18. Receipt and Possession of Pacific Halibut

(1) No person shall receive Pacific halibut caught in IPHC Regulatory Area 2A from a United States vessel that does not have on board the license required by section 5.

(2) No person shall possess on board a vessel a Pacific halibut other than whole or with gills and entrails removed, except that this paragraph shall not prohibit the possession on board a vessel of:

(a) Pacific halibut cheeks cut from Pacific halibut caught by persons authorized to process the Pacific halibut on board in accordance with NMFS regulations published at 50 CFR part 679;

(b) fillets from Pacific halibut offloaded in accordance with section 18 that are possessed on board the harvesting vessel in the port of landing up to 1800 hours local time on the calendar day following the offload; ⁷ and

⁷ DFO has more restrictive regulations; therefore, section 18 paragraph (2)(b) does not apply to fish caught in IPHC Regulatory Area 2B or landed in British Columbia.

(c) Pacific halibut with their heads removed in accordance with section 14.

(3) No person shall offload Pacific halibut from a vessel unless the gills and entrails have been removed prior to offloading.

(4) It shall be the responsibility of a vessel operator who lands Pacific halibut to continuously and completely offload at a single offload site all Pacific halibut on board the vessel.

(5) A registered buyer (as that term is defined in regulations promulgated by NMFS and codified at 50 CFR part 679) who receives Pacific halibut harvested in IFQ and CDQ fisheries in IPHC Regulatory Areas 2C, 3A, 3B, 4A, 4B, 4C, 4D, and 4E, directly from the vessel operator that harvested such Pacific halibut must weigh all the Pacific halibut received and record the following information on Federal catch reports: Date of offload; name of vessel; vessel number (State, Tribal or Federal, not IPHC vessel number); scale weight obtained at the time of offloading, including the scale weight (in pounds) of Pacific halibut purchased by the registered buyer, the scale weight (in pounds) of Pacific halibut offloaded in excess of the IFQ or CDQ, the scale weight of Pacific halibut (in pounds) retained for personal use or for future sale, and the scale weight (in pounds) of Pacific halibut discarded as unfit for human consumption. All Pacific halibut harvested in IFQ or CDQ fisheries in Areas IPHC Regulatory 2C, 3A, 3B, 4A, 4B, 4C, 4D, and 4E, must be weighed with the head on and the head-on weight must be recorded on Federal catch reports as specified in this paragraph, unless the Pacific halibut is frozen at sea and exempt from the head-on landing requirement at Section 14(2).

(6) The first recipient, commercial fish processor, or buyer in the United States who purchases or receives Pacific halibut directly from the vessel operator that harvested such Pacific halibut must weigh and record all Pacific halibut received and record the following information on State fish tickets: The date of offload; vessel number (State or Federal, not IPHC vessel number) or Tribal ID number; total weight obtained at the time of offload including the weight (in pounds) of Pacific halibut purchased; the weight (in pounds) of Pacific halibut offloaded in excess of the IFQ, CDQ, or fishing period limits; the weight of Pacific halibut (in pounds) retained for personal use or for future sale; and the weight (in pounds) of halibut discarded as unfit for human consumption. All Pacific halibut harvested in IFQ or CDQ fisheries in IPHC Regulatory Areas 2C, 3A, 3B, 4A, 4B, 4C, 4D, and 4E, must be weighed with the head on and the head-on weight must be recorded on State fish tickets as specified in this paragraph, unless the Pacific halibut is frozen at sea and exempt from the head-on landing requirement at Section 14(2).

(7) For Pacific halibut landings made in Alaska, the requirements as listed in paragraphs (5) and (6) can be met by recording the information in the Interagency Electronic Reporting Systems, eLandings in accordance with NMFS regulation published at 50 CFR part 679.

(8) The master or operator of a Canadian vessel that was engaged in Pacific halibut fishing must weigh and record all Pacific halibut on board said vessel at the time offloading commences and record on Provincial fish tickets or Federal catch reports: The date; locality; name of vessel; the name(s) of the person(s) from whom the Pacific halibut was purchased; and the scale weight obtained at the time of offloading of all Pacific halibut on board the vessel including the pounds purchased, pounds in excess of IVQs, pounds retained for personal use, and pounds discarded as unfit for human consumption. All Pacific halibut must be weighed with the head on and the head-on weight must be recorded on the Provincial fish tickets or Federal catch reports as specified in this paragraph, unless the Pacific halibut is frozen at sea and exempt from the head-on landing requirement at Section 14(2).

(9) No person shall make a false entry on a State or Provincial fish ticket or a Federal catch or landing report referred to in paragraphs (5), (6), and (8) of section 18.

(10) A copy of the fish tickets or catch reports referred to in paragraphs (5), (6), and (8) shall be:

(a) Retained by the person making them for a period of three years from the date the fish tickets or catch reports are made; and

(b) open to inspection by an authorized officer or any authorized representative of the Commission.

(11) No person shall possess any Pacific halibut taken or retained in contravention of these Regulations.

(12) When Pacific halibut are landed to other than a commercial fish processor, the records required by paragraph (6) shall be maintained by the operator of the vessel from which that Pacific halibut was caught, in compliance with paragraph (10).

(13) No person shall tag Pacific halibut unless the tagging is authorized by IPHC permit or by a Federal or State agency.

19. Fishing Multiple Regulatory Areas

(1) Except as provided in this section, no person shall possess at the same time on board a vessel Pacific halibut caught in more than one IPHC Regulatory Area.

(2) Pacific halibut caught in more than one of the IPHC Regulatory Areas 2C, 3A, 3B, 4A, 4B, 4C, 4D, or 4E may be possessed on board a vessel at the same time only if:

(a) Authorized by NMFS regulations published at 50 CFR 679.7(f)(4); and

(b) the operator of the vessel identifies the regulatory area in which each Pacific halibut on board was caught by separating Pacific halibut from different areas in the hold, tagging Pacific halibut, or by other means.

20. Fishing Gear

(1) No person shall fish for Pacific halibut using any gear other than hook and line gear,

(a) except that vessels licensed to catch sablefish in IPHC Regulatory Area 2B using sablefish trap gear as defined in the Condition of Licence can retain Pacific halibut caught as bycatch under regulations promulgated by DFO; or

(b) except that a person may retain Pacific halibut taken with longline or single pot gear if such retention is authorized by NMFS regulations published at 50 CFR part 679.

(2) No person shall possess Pacific halibut taken with any gear other than hook and line gear,

(a) except that vessels licensed to catch sablefish in IPHC Regulatory Area 2B using sablefish trap gear as defined by the Condition of Licence can retain Pacific halibut caught as bycatch under regulations promulgated by DFO; or

(b) except that a person may possess Pacific halibut taken with longline or single pot gear if such possession is authorized by NMFS regulations published at 50 CFR part 679.

(3) No person shall possess Pacific halibut while on board a vessel carrying any trawl nets or fishing pots capable of catching Pacific halibut,

(a) except that in IPHC Regulatory Areas 2C, 3A, 3B, 4A, 4B, 4C, 4D, or 4E, Pacific halibut heads, skin, entrails, bones or fins for use as bait may be possessed on board a vessel carrying pots capable of catching Pacific halibut, provided that a receipt documenting purchase or transfer of these Pacific halibut parts is on board the vessel; or

(b) except that in IPHC Regulatory Areas 2C, 3A, 3B, 4A, 4B, 4C, 4D, or 4E, Pacific halibut may be possessed on board a vessel carrying pots capable of catching Pacific halibut, provided such possession is authorized by NMFS regulations published at 50 CFR part 679 as referenced in paragraphs (1) and (2) of this section; or

(c) except that in IPHC Regulatory Area 2B, Pacific halibut may be possessed on board a vessel carrying sablefish trap gear, provided such possession is authorized by the Condition of Licence regulations promulgated by DFO as referenced in paragraphs (1) and (2) of this section.

(4) All gear marker buoys carried on board or used by any United States vessel used for Pacific halibut fishing shall be marked with one of the following:

(a) The vessel's State license number; or

(b) the vessel's registration number.

(5) The markings specified in paragraph (4) shall be in characters at least four inches in height and one-half inch in width in a contrasting color visible above the water and shall be maintained in legible condition.

(6) All gear marker buoys carried on board or used by a Canadian vessel used for Pacific halibut fishing shall be:

(a) Floating and visible on the surface of the water; and

(b) legibly marked with the identification plate number of the vessel engaged in commercial fishing from which that setline is being operated.

(7) No person on board a vessel used to fish for any species of fish anywhere in IPHC Regulatory Area 2A during the 72-hour period immediately before the fishing period for the directed commercial fishery shall catch or possess Pacific halibut anywhere in those waters during that Pacific halibut fishing period unless, prior to the start of the Pacific halibut fishing period, the vessel has removed its gear from the water and has either:

(a) Made a landing and completely offloaded its catch of other fish; or

(b) submitted to a hold inspection by an authorized officer.

(8) No vessel used to fish for any species of fish anywhere in IPHC Regulatory Area 2A during the 72-hour period immediately before the fishing period for the directed commercial fishery may be used to catch or possess Pacific halibut anywhere in those waters during that Pacific halibut fishing period unless, prior to the start of the Pacific halibut fishing period, the vessel has removed its gear from the water and has either:

(a) Made a landing and completely offloaded its catch of other fish; or

(b) submitted to a hold inspection by an authorized officer.

(9) No person on board a vessel from which setline gear was used to fish for any species of fish anywhere in IPHC Regulatory Areas 2B, 2C, 3A, 3B, 4A, 4B, 4C, 4D, or 4E during the 72-hour period immediately before the opening of the Pacific halibut fishing season shall catch or possess Pacific halibut anywhere in those areas until the vessel has removed all of its setline gear from the water and has either:

(a) Made a landing and completely offloaded its entire catch of other fish; or

(b) submitted to a hold inspection by an authorized officer.

(10) No vessel from which setline gear was used to fish for any species of fish anywhere in IPHC Regulatory Areas 2B, 2C, 3A, 3B, 4A, 4B, 4C, 4D, or 4E during the 72-hour period immediately before the opening of the Pacific halibut fishing season may be used to catch or possess Pacific halibut anywhere in those areas until the vessel has removed all of its setline gear from the water and has either:

(a) Made a landing and completely offloaded its entire catch of other fish; or

(b) submitted to a hold inspection by an authorized officer.

(11) Notwithstanding any other provision in these Regulations, a person may retain, possess and dispose of Pacific halibut taken with trawl gear only as authorized by Prohibited Species Donation regulations of NMFS.

21. Supervision of Unloading and Weighing

The unloading and weighing of Pacific halibut may be subject to the supervision of authorized officers to assure the fulfillment of the provisions of these Regulations.

22. Retention of Tagged Pacific Halibut

(1) Nothing contained in these Regulations prohibits any vessel at any time from retaining and landing a Pacific halibut that bears a Commission external tag at the time of capture, if the Pacific halibut with the tag still attached is reported at the time of landing and made available for examination by a representative of the Commission or by an authorized officer.

(2) After examination and removal of the tag by a representative of the Commission or an authorized officer, the Pacific halibut:

(a) May be retained for personal use; or

(b) may be sold only if the Pacific halibut is caught during commercial Pacific halibut fishing and complies with the other commercial fishing provisions of these Regulations.

(3) Any Pacific halibut that bears a Commission external tag must count against commercial IVQs, CDQs, or IFQs unless otherwise exempted by State, Provincial, or Federal regulations.

(4) Any Pacific halibut that bears a Commission external tag will not count against sport daily bag limits or possession limits, may be retained outside of sport fishing seasons, and are not subject to size limits in these regulations.

(5) Any Pacific halibut that bears a Commission external tag will not count against daily bag limits, possession limits, or catch limits in the fisheries described in section 23, paragraph (7), section 24, or section 25.

23. Fishing by United States Treaty Indian Tribes

(1) Pacific halibut fishing in Subarea 2A-1 by members of United States treaty Indian tribes located in the State of Washington shall be regulated under regulations promulgated by NMFS and published in the Federal Register.

(2) Subarea 2A-1 includes all waters off the coast of Washington that are north of the Quinault River, WA (47°21.00′ N lat.), and east of 125°44.00′ W long; all waters off the coast of Washington that are between the Quinault River, WA (47°21.00′ N lat.), and Point Chehalis, WA (46°53.30′ N lat.), and east of 125°08.50′ W long.; and all inland marine waters of Washington.

(3) Section 14 (size limits), section 15 (careful release of Pacific halibut), section 17 (logs), section 18 (receipt and possession of Pacific halibut) and section 20 (fishing gear), except paragraphs (7) and (8) of section 20, apply to commercial fishing for Pacific halibut in Subarea 2A-1 by the treaty Indian tribes.

(4) Regulations in paragraph (3) of this section that apply to State fish tickets apply to Tribal tickets that are authorized by WDFW.

(5) Section 4 (Licensing Vessels for IPHC Regulatory Area 2A) does not apply to commercial fishing for Pacific halibut in Subarea 2A-1 by treaty Indian tribes.

(6) Commercial fishing for Pacific halibut in Subarea 2A-1 is permitted with hook and line gear from 24 March through 7 November, or until 435,900 pounds (197.72 metric tons) net weight is taken, whichever occurs first.

(7) Ceremonial and subsistence fishing for Pacific halibut in Subarea 2A-1 is permitted with hook and line gear from January 1 through December 31, and is estimated to take 29,600 pounds (13.43 metric tons) net weight.

24. Customary and Traditional Fishing in Alaska

(1) Customary and traditional fishing for Pacific halibut in IPHC Regulatory Areas 2C, 3A, 3B, 4A, 4B, 4C, 4D, and 4E shall be governed pursuant to regulations promulgated by NMFS and published in 50 CFR part 300.

(2) Customary and traditional fishing is authorized from 1 January through 31 December.

25. Aboriginal Groups Fishing for Food, Social and Ceremonial Purposes in British Columbia

(1) Fishing for Pacific halibut for food, social and ceremonial purposes by Aboriginal groups in IPHC Regulatory Area 2B shall be governed by the Fisheries Act of Canada and regulations as amended from time to time.

26. Sport Fishing for Pacific Halibut—General

(1) No person shall engage in sport fishing for Pacific halibut using gear other than a single line with no more than two hooks attached; or a spear.

(2) Any size limit promulgated under IPHC or NMFS regulations shall be measured in a straight line passing over the pectoral fin from the tip of the lower jaw with the mouth closed, to the extreme end of the middle of the tail.

(3) Any Pacific halibut brought aboard a vessel and not immediately returned to the sea with a minimum of injury will be included in the daily bag limit of the person catching the Pacific halibut.

(4) No person may possess Pacific halibut on a vessel while fishing in a closed area.

(5) No Pacific halibut caught by sport fishing shall be offered for sale, sold, traded, or bartered.

(6) No Pacific halibut caught in sport fishing shall be possessed on board a vessel when other fish or shellfish aboard said vessel are destined for commercial use, sale, trade, or barter.

(7) The operator of a charter vessel shall be liable for any violations of these Regulations committed by an angler on board said vessel. In Alaska, the charter vessel guide, as defined in 50 CFR 300.61 and referred to in 50 CFR 300.65, 300.66, and 300.67, shall be liable for any violation of these Regulations committed by an angler on board a charter vessel.

27. Sport Fishing for Pacific Halibut—IPHC Regulatory Area 2A

(1) The total allowable catch of Pacific halibut shall be limited to:

(a) 237,762 pounds (107.85 metric tons) net weight in waters off Washington;

(b) 256,757 pounds (116.46 metric tons) net weight in waters off Oregon; and

(c) 34,580 pounds (15.69 metric tons) net weight in waters off California.

(2) The Commission shall determine and announce closing dates to the public for any area in which the catch limits promulgated by NMFS are estimated to have been taken.

(3) When the Commission has determined that a subquota under paragraph (8) of this section is estimated to have been taken, and has announced a date on which the season will close, no person shall sport fish for Pacific halibut in that area after that date for the rest of the year, unless a reopening of that area for sport halibut fishing is scheduled in accordance with the Catch Sharing Plan for IPHC Regulatory Area 2A, or announced by the Commission.

(4) In California, Oregon, or Washington, no person shall fillet, mutilate, or otherwise disfigure a Pacific halibut in any manner that prevents the determination of minimum size or the number of fish caught, possessed, or landed.

(5) The possession limit on a vessel for Pacific halibut in the waters off the coast of Washington is the same as the daily bag limit. The possession limit for Pacific halibut on land in Washington is two daily bag limits.

(6) The possession limit on a vessel for Pacific halibut caught in the waters off the coast of Oregon is the same as the daily bag limit. The possession limit for Pacific halibut on land in Oregon is three daily bag limits.

(7) The possession limit on a vessel for Pacific halibut caught in the waters off the coast of California is one daily bag limit. The possession limit for Pacific halibut on land in California is one daily bag limit.

(8) Specific regulations describing fishing periods, catch limits, fishing dates, and daily bag limits are promulgated by NMFS and published in the Federal Register.

28. Sport Fishing for Pacific Halibut—IPHC Regulatory Area 2B

(1) In all waters off British Columbia: ⁸ ⁹

⁸ DFO could implement more restrictive regulations for the sport fishery, therefore anglers are advised to check the current Federal or Provincial regulations prior to fishing.

⁹ For regulations on the experimental recreational fishery implemented by DFO check the current Federal or Provincial regulations.

(a) The sport fishing season will open on 1 February unless more restrictive regulations are in place;

(b) the sport fishing season will close when the sport catch limit allocated by DFO, is taken, or 31 December, whichever is earlier; and

(c) the daily bag limit is two Pacific halibut of any size per day per person.

(2) In British Columbia, no person shall fillet, mutilate, or otherwise disfigure a Pacific halibut in any manner that prevents the determination of minimum size or the number of fish caught, possessed, or landed.

(3) The possession limit for Pacific halibut in the waters off the coast of British Columbia is three Pacific halibut.⁹ ¹⁰

29. Sport Fishing for Pacific Halibut—IPHC Regulatory Areas 2C, 3A, 3B, 4A, 4B, 4C, 4D, 4E

(1) In Convention waters in and off Alaska: ¹⁰ ¹¹

¹⁰ NMFS could implement more restrictive regulations for the sport fishery or components of it, therefore, anglers are advised to check the current Federal or State regulations prior to fishing.

¹¹ Charter vessels are prohibited from harvesting Pacific halibut in IPHC Regulatory Areas 2C and 3A during one charter vessel fishing trip under regulations promulgated by NMFS at 50 CFR 300.66.

(a) The sport fishing season is from 1 February to 31 December.

(b) The daily bag limit is two Pacific halibut of any size per day per person unless a more restrictive bag limit applies in Commission regulations or Federal regulations at 50 CFR 300.65.

(c) No person may possess more than two daily bag limits.

(d) No person shall possess on board a vessel, including charter vessels and pleasure craft used for fishing, Pacific halibut that have been filleted, mutilated, or otherwise disfigured in any manner, except that each Pacific halibut may be cut into no more than 2 ventral pieces, 2 dorsal pieces, and 2 cheek pieces, with a patch of skin on each piece, naturally attached.

(e) Pacific halibut in excess of the possession limit in paragraph (1)(c) of this section may be possessed on a vessel that does not contain sport fishing gear, fishing rods, hand lines, or gaffs.

(f) Pacific halibut harvested on a charter vessel fishing trip in IPHC Regulatory Areas 2C or 3A must be retained on board the charter vessel on which the Pacific halibut was caught until the end of the charter vessel fishing trip as defined at 50 CFR 300.61.

(g) Guided angler fish (GAF), as described at 50 CFR 300.65, may be used to allow a charter vessel angler to harvest additional Pacific halibut up to the limits in place for unguided anglers, and are exempt from the requirements in paragraphs (2) and (3) of this section.

(2) For guided sport fishing (as referred to in 50 CFR 300.65) in IPHC Regulatory Area 2C:

(a) The total allocation, including estimated harvest and discard mortality (wastage), is 915,000 pounds (415.04 metric tons).

(b) No person on board a charter vessel (as referred to in 50 CFR 300.65) shall catch and retain more than one Pacific halibut per calendar day.

(c) No person on board a charter vessel (as referred to in 50 CFR 300.65) shall catch and retain any Pacific halibut that with head on is greater than 44 inches (111.8 cm) and less than 80 inches (203.2 cm) as measured in a straight line, passing over the pectoral fin from the tip of the lower jaw with mouth closed, to the extreme end of the middle of the tail.

(3) For guided sport fishing (as referred to in 50 CFR 300.65) in IPHC Regulatory Area 3A:

(a) The total allocation, including estimated harvest and discard mortality (wastage), is 1,890,000 pounds (857.29 metric tons).

(b) No person on board a charter vessel (as referred to in 50 CFR 300.65) shall catch and retain more than two Pacific halibut per calendar day.

(c) At least one of the retained Pacific halibut must have a head-on length of no more than 28 inches (71.1 cm) as measured in a straight line, passing over the pectoral fin from the tip of the lower jaw with mouth closed, to the extreme end of the middle of the tail. If a person sport fishing on a charter vessel in IPHC Regulatory Area 3A retains only one Pacific halibut in a calendar day, that Pacific halibut may be of any length.

(d) A charter halibut permit (as referred to in 50 CFR 300.67) may only be used for one charter vessel fishing trip in which Pacific halibut are caught and retained per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first.

(e) A charter vessel on which one or more anglers catch and retain Pacific halibut may only make one charter vessel fishing trip per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first.

(f) No person on board a charter vessel may catch and retain Pacific halibut on any Wednesday, or on the following Tuesdays: 17 July, 24 July, and 31 July.

(g) Charter vessel anglers may catch and retain no more than four (4) Pacific halibut per calendar year on board charter vessels in IPHC Regulatory Area 3A. Pacific halibut that are retained as GAF, retained while on a charter vessel fishing trip in other Commission regulatory areas, or retained while fishing without the services of a guide do not accrue toward the 4-fish annual limit. For purposes of enforcing the annual limit, each angler must:

(1) Maintain a nontransferable harvest record in the angler's possession if retaining a Pacific halibut for which an annual limit has been established. Such harvest record must be maintained either on the back of the angler's State of Alaska sport fishing license or on a Sport Fishing Harvest Record Card obtained, without charge, from ADFG offices, the ADFG website, or fishing license vendors; and

(2) immediately upon retaining a Pacific halibut for which an annual limit has been established, record the date, location (IPHC Regulatory Area 3A), and species of the catch (Pacific halibut), in ink, on the harvest record; and

(3) record the information required by paragraph 3(g)(2) on any duplicate or additional sport fishing license issued to the angler or any duplicate or additional Sport Fishing Harvest Record Card obtained by the angler for all Pacific halibut previously retained during that year that were subject to the harvest record reporting requirements of this section; and

(4) carry the harvest record on his or her person while fishing for Pacific halibut.

30. Previous Regulations Superseded

These Regulations shall supersede all previous regulations of the Commission, and these Regulations shall be effective each succeeding year until superseded.

BILLING CODE 3510-22-P

BILLING CODE 3510-22-C

Classification

IPHC Regulations

These IPHC annual management measures are a product of an agreement between the United States and Canada and are published in the Federal Register to provide notice of their effectiveness and content. Pursuant to section 4 of the Northern Pacific Halibut Act of 1982, 16 U.S.C. 773c, the Secretary of State, with the concurrence of the Secretary of Commerce, may “accept or reject” but not modify these recommendations of the IPHC. The notice-and-comment and delay-in-effectiveness date provisions of the Administrative Procedure Act (APA), 5 U.S.C. 553(b) and (d), are inapplicable to IPHC management measures because this regulation involves a foreign affairs function of the United States, 5 U.S.C. 553(a)(1). As stated above, the Secretary of State has no discretion to modify the recommendations of the IPHC. The additional time necessary to comply with the notice-and-comment and delay-in-effectiveness requirements of the APA would disrupt coordinated international conservation and management of the halibut fishery pursuant to the Convention. Furthermore, no other law requires prior notice and public comment for this rule. Because prior notice and an opportunity for public comment are not required to be provided for these portions of this rule by 5 U.S.C. 553, or any other law, the analytical requirements of the Regulatory Flexibility Act, 5 U.S.C. 601 et seq., are not applicable. Accordingly, no Regulatory Flexibility Analysis is required for this portion of the rule and none has been prepared. This final rule has been determined to be not significant for the purposes of Executive Order 12866.

Authority: 16 U.S.C. 773 et seq.

Dated: March 6, 2018.
Samuel D. Rauch III,
Deputy Assistant Administrator for Regulatory Programs, National Marine Fisheries Service.

[FR Doc. 2018-04818 Filed 3-8-18; 8:45 am]

BILLING CODE 3510-22-P